NUCLEAR REGULATORY COMMISSION

[Docket Nos. 50-295, 50-304, and 72-1037; NRC-2019-0236]

In the Matter of ZionSolutions, LLC and Exelon Generation Company, LLC; Zion Nuclear Power Station, Units 1 and 2

AGENCY: U.S. Nuclear Regulatory Commission.

ACTION: Direct transfer of license; order.

SUMMARY: The U.S. Nuclear Regulatory Commission (NRC) is issuing an order approving the direct transfer of Facility Operating License Nos. DPR-39 and DPR-48 for Zion Nuclear Power Station (ZNPS), Units 1 and 2, respectively, and the general license for the ZNPS independent spent fuel storage installation (ISFSI) from the current holder, ZionSolutions, LLC (ZS), to Exelon Generation Company, LLC (EGC). The NRC is also amending the facility operating licenses for administrative purposes to reflect the license transfer from ZS to EGC. The NRC determined that EGC is qualified to be the holder of the licenses and that the transfer of the licenses is otherwise consistent with applicable provisions of law, regulations, and orders issued by the Commission. The order approving the transfer of the ZNPS licenses to EGC became effective on November 26, 2019.

DATES: The order was issued on November 26, 2019, and is effective for one year.

ADDRESSES: Please refer to Docket ID NRC-2019-0236 when contacting the NRC about the availability of information regarding this document. You may obtain publicly-available information related to this document using any of the following methods:

• Federal Rulemaking Website: Go to http://www.regulations.gov and search for Docket ID NRC-2019-0236. Address questions about NRC Docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: John B. Hickman, Office of Nuclear Material Safety and Safeguards, U.S. Nuclear Regulatory Commission, Washington, DC 20555-0001; telephone: 301-415-3017; email: john.hickman@nrc.gov.

SUPPLEMENTARY INFORMATION: The text of the order is attached.

Dated at Rockville, Maryland, this 3rd day of December 2019.
For the Nuclear Regulatory Commission.
John B. Hickman,
Project Manager, Reactor Decommissioning Branch, Division of Decommissioning, Uranium Recovery, and Waste Programs, Office of Nuclear Material Safety and Safeguards.

Attachment—Order Approving the Transfer of Licenses and Conforming Amendments

United States of America

Nuclear Regulatory Commission

In the Matter of: ZionSolutions, LLC, and Exelon Generation Company, LLC, Zion Nuclear Power Station, Units 1 and 2, EA-19-125.

Docket Nos. 50-295, 50-304, and 72-1037

License Nos. DPR-39 and DPR-48

Order Approving Transfer of Licenses and Conforming Amendments

I.

ZionSolutions, LLC (ZS) is the holder of Facility Operating License Nos. DPR-39 and DRP-48 for Zion Nuclear Power Station (ZNPS), Units 1 and 2, respectively, and the general license for the ZNPS independent spent fuel storage installation (ISFSI). ZS is authorized to possess and maintain ZNPS and the ZNPS ISFSI, which are located in Zion, Illinois. ZNPS is located on the west shore of lake Michigan approximately midway between Chicago, Illinois and Milwaukee, Wisconsin.

ZNPS Units 1 and 2 were both Westinghouse 3250 MWt pressurized-water reactors. Unit 1 was granted an operating license on October 19, 1973 and was shut down on February 21, 1997. Unit 2 was granted an operating license on November 14, 1973 and was shut down on September 19, 1996.

In February 1998, pursuant to Title 10 of the Code of Federal Regulations (CFR) Part 50.82(a)(1)(i), the ZNPS licensee certified to the NRC that as of February 13, 1998, operations had permanently ceased at ZNPS and subsequently certified pursuant to 10 CFR 50.82(a)(1)(ii) that all fuel had been permanently removed from the units' reactor vessels (Agencywide Documents Access and Management System [ADAMS] Accession Nos. ML15232A492 and ML15232A487). Pursuant to 10 CFR 50.82(a)(2), operations or emplacement of fuel into the reactor vessels at ZNPS are no longer authorized under the licenses. On January 25, 2008, the ZNPS licensee submitted an application to transfer the ZNPS licenses from Exelon Generation Company, LLC (EGC) to ZS for the purpose of expedited decommissioning (ADAMS Accession No. ML080310521). The NRC consented to the license transfer on May 4, 2009 (ADAMS Accession No. ML090930037). Spent fuel transfer from the Spent Fuel Pool (SFP) to the ISFSI was completed on January 10, 2015. As of September 2019, the ZNPS site was in the final stages of radiological decommissioning, environmental remediation, and site restoration.

II.

By letter dated July 24, 2018 (ADAMS Accession No. ML18211A303), as supplemented by letters dated January 21, 2019 (ADAMS Accession No. ML19028A175) and February 8, 2019 (ADAMS Accession No. ML19043A673), ZS requested, on behalf of itself and EGC (collectively, the applicants), pursuant to Section 184 of the Atomic Energy Act of 1954, as amended, and Section 50.80, “Transfer of licenses,” of 10 CFR, that the U.S. Nuclear Regulatory Commission (NRC, the Commission) consent to the transfer to EGC of Facility Operating License Nos. DPR-39 and DPR-48 for ZNPS, Units 1 and 2, respectively, and the generally licensed ZNPS ISFSI, which are currently held by ZS. Specifically, ZS intends to transfer its NRC-licensed possession, maintenance, and decommissioning authorities back to EGC upon the completion of the decommissioning activities at the ZNPS site. The application proposed no physical or operational changes to the facilities.

The NRC published a notice, “Zion Nuclear Power Station, Units 1 and 2: Zion Solutions, LLC, Application for direct transfer of facility operating license and conforming amendment; opportunity to comment, request a hearing, and petition for leave to intervene,” in the Federal Register on September 24, 2018 (83 FR 48343). No comments or hearing requests were received.

Pursuant to 10 CFR 50.80, no license, or any right thereunder, shall be transferred, directly or indirectly, through transfer of control of the license, unless the Commission gives its consent in writing. Upon review of the information in the application and other information before the Commission, and relying upon the representations and agreements contained in the application, the NRC staff has determined that EGC is qualified to hold the licenses. The NRC staff has also determined that the proposed license transfer is otherwise consistent with the applicable provisions of law, regulations, and orders issued by the Commission pursuant thereto, subject to the condition set forth below.

Upon review of the application for conforming amendments to the ZNPS licenses to reflect the transfer to EGC, the NRC staff determined the following:

(1) The application for the proposed license amendments complies with the standards and requirements of the Atomic Energy Act of 1954, as amended (the Act), and the Commission's rules and regulations set forth in 10 CFR Chapter I.

(2) There is reasonable assurance that the activities authorized by the proposed license amendments can be conducted without endangering the health and safety of the public, and that such activities will be conducted in compliance with the Commission's regulations.

(3) The issuance of the proposed license amendments will not be inimical to the common defense and security or to the health and safety of the public.

(4) The issuance of the proposed license amendments is in accordance with 10 CFR part 51 of the Commission's regulations and all applicable requirements have been satisfied.

The findings set forth above are supported by an NRC safety evaluation dated November 26, 2019, which is available at ADAMS Accession No. ML19228A131.

III.

Accordingly, pursuant to Sections 161b, 161i, and 184 of the Act, 42 U.S.C. Sections 2201(b), 2201(i), and 2234; and 10 CFR 50.80, it is hereby ordered that the application regarding the proposed license transfer is approved, subject to the following condition:

Prior to the consummation of the license transfer from ZS to EGC, EGC shall provide satisfactory documentary evidence to the Director of the Office of Nuclear Material Safety and Safeguards at the NRC that it has obtained or continues to possess the appropriate amount of insurance required of a licensee under 10 CFR part 140 and 10 CFR 50.54(w), consistent with the exemptions issued to ZNPS on December 21, 1999.

It is further ordered that, consistent with 10 CFR 2.1315(b), the license amendments that make changes, as indicated in Enclosure 2 to the cover letter forwarding this Order, to conform the licenses to reflect the subject license transfer are approved. The amendments shall be issued and made effective at the time the proposed license transfer is completed.

It is further ordered that, after receipt of all required regulatory approvals of the proposed transfer action, EGC shall inform the Director of the Office of Nuclear Material Safety and Safeguards in writing of such receipt, and of the date of closing of the transfer, no later than 5 business days before the date of the closing of the transfer. Should the proposed transfer not be completed within 1 year of this Order's date of issuance, this Order shall become null and void; provided, however, that upon written application and for good cause shown, such date may be extended by order. This Order is effective upon issuance.

For further details with respect to this Order, see the application dated July 24, 2018 (ADAMS Accession No. ML18211A303), the supplements dated January 21, 2019 (ADAMS Accession No. ML19028A175) and February 8, 2019 (ADAMS Accession No. ML 19043A673), and the NRC's safety evaluation dated November 26, 2019 (ADAMS Accession No. ML19228A131), which are available for public inspection at the NRC's Public Document Room located at One White Flint North, Public File Area O1-F21, 11555 Rockville Pike (First Floor), Rockville, Maryland. Publicly available documents created or received at the NRC are accessible electronically through ADAMS in the NRC Library at http://www.nrc.gov/reading-rm/adams.html. Persons who do not have access to ADAMS or who encounter problems accessing the documents located in ADAMS should contact the NRC Public Document Room reference staff by telephone at 1-800-397-4209 or 301-415-4737 or by email to pdr.resource@nrc.gov.

Dated at Rockville, Maryland, this 26th day of November, 2019.

For the Nuclear Regulatory Commission

/RA/

John W. Lubinski, Director,

Office of Nuclear Material Safety and Safeguards.

[FR Doc. 2019-26352 Filed 12-5-19; 8:45 a.m.]

BILLING CODE 7590-01-P